DEPARTMENT OF AGRICULTURE

Agricultural Marketing Service

7 CFR Parts 27 to 52

Republication

CFR Correction

Title 7, parts 27 to 52, revised as of January 1, 2004, is being republished in its entirety. The earlier issuance inadvertently omitted Table III contained in § 52.1853 and subsequent sections 52.1854 through 52.1858, 52.3181 through 52.3188, and 52.3751 through 52.3764. The omitted table and text should immediately follow § 52.1853(c) on page 576.

[FR Doc. 04-55525 Filed 11-9-04; 8:45 am]

BILLING CODE 1505-01-D